DEPARTMENT OF ENERGY

Federal Energy Regulatory Commission

[Project No. 2203-013—Alabama]

Alabama Power Company; Holt Hydroelectric Project; Notice of Revised Restricted Service List for a Programmatic Agreement

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Alabama State Historic Preservation Officer (Alabama SHPO) and the Advisory Council on Historic Preservation (Advisory Council) pursuant to the Advisory Council's regulations, 36 CFR part 800, implementing section 106 of the National Historic Preservation Act, as amended, (16 U.S.C. section 470f), to prepare a programmatic agreement for managing properties included in, or eligible for inclusion in, the National Register of Historic Places that could be affected by issuance of a new license for the Holt Hydroelectric Project No. 2203.

The programmatic agreement, when executed by the Commission, the Alabama SHPO, and the Advisory Council, would satisfy the Commission's section 106 responsibilities for all individual undertakings carried out in accordance with the license until the license expires or is terminated (36 CFR section 800.13(e)). On August 30, 2011, the Commission staff established a restricted service list for the Holt Hydroelectric Project.

On June 21, 2012, the Choctaw Nation of Oklahoma requested a revision to the restricted service list. The revision is: “Terry Cole, THPO” is replaced with “Dr. Ian Thompson, THPO, or Representative”.

Dated: June 25, 2012.
Kimberly D. Bose,
Secretary.

[FR Doc. 2012-15971 Filed 6-28-12; 8:45 am]

BILLING CODE 6717-01-P